DEPARTMENT OF THE INTERIOR

National Park Service

National Register of Historic Places; Notification of Pending Nominations

Nominations for the following properties being considered for listing in the National Register were received by the National Park Service before October 21, 2000. Pursuant to section 60.13 of 36 CFR part 60 written comments concerning the significance of these properties under the National Register criteria for evaluation may be forwarded to the National Register, National Park Service, 1849 C St. NW, NC400, Washington, DC 20240. Written comments should be submitted by November 14, 2000.

Carol D. Shull,
Keeper of the National Register.

ARIZONA

Pima County

El Montevideo Neighborhood Residential Historic District (Boundary Increase), 3700, 3800 Blocks of Camino Del Norte, Tucson, 00001362

Sam Hughes Neighborhood Historic District (Boundary Increase), Roughly bounded by E. Speedway Blvd., N. Country Club Rd., E. Broadway Blvd., and N. Campbell Ave., Tucson, 00001363

ARKANSAS

Fulton County

Saddle Store, AR 289, Saddle, 00001366

Pulaski County

Taylor, Samuel P., Service Station, (Arkansas Highway History and Architecture MPS) 1123 W. 3rd St., Little Rock, 00001364

Searcy County

Meek Building, Jct. of Main and Oak Sts., Leslie, 00001367

Willmering Tourist Cabins Historic District, (Arkansas Highway History and Architecture MPS) AR 65, Silver Hill, 00001361

Washington County

Bethlehem Cemetery, Approx. 4 mi. SW of Cane Hill on AR 45, near jct. with Cty. Rd 442, Canehill, 00001365

COLORADO

Alamosa County

Denver and Rio Crande Locomotive No. 169, Along Chamber Dr. within Cole Park, Alamosa, 00001369

El Paso County

Pauline Chapel, 2 Park Ave., Colorado Springs, 00001370

HAWAII

Honolulu County

Charlot, Jean, House, Address Restricted, Honolulu, 00001371

MINNESOTA

Goodhue County

Nansen Agricultural Historic District, Vic. of MN 56 and Cty Hwys 14 and 49, Holden, 00001372

MISSOURI

Cole County

Zion Lutheran Church, 2346 Zion Rd., Jefferson, 00001374

Greene County

Holland Building, (Springfield MPS) 205 Park Central East, Springfield, 00001373

Jackson County

St. Teresa's Academy Music and Arts Building, 5600 Main St., Kansas City, 00001375

NEBRASKA

Butler County

David City Park and Municipal Auditorium, S side of down, bordering NE 15, David City, 00001378

Douglas County

Field Club Historic District, Roughly bounded by Pacific, 32nd Ave., Center St., and 36th St., Omaha, 00001380

Otoe County

McCartney School District 17, (School Buildings in Nebraska MPS) Jct. of Steamwagon Rd. and CTH 59, Nebraska City, 00001379

Sarpy County

Zweibel Farmstead, 16302 S 63rd St., Papillion, 00001377

Saunders County

Ashland Archeological District, Address Restricted, Ashland, 00001376

NEW YORK

Otsego County

Wilber, George I., House, 11 Ford Ave., Oneonta, 00001381

PENNSYLVANIA

York County

Berkheimer, Henry and Elizabeth, Farm, 240 Bentz Mill Rd., Washington Township, 00001382

PUERTO RICO

Guanica Municipality

Yauco Battle Site, (Spanish-American War in Puerto Rico MPS) Address Restricted, Guanica, 00001383

TEXAS

Burnet County

Burnet County Courthouse, 220 S. Pierce St., Burnet, 00001384

TEXAS

Smith County

Marvin Methodist Episcopal Church, South, 300 W. Erwin St., Tyler, 00001385

[FR Doc. 00-27784 Filed 10-27-00; 8:45 am]

BILLING CODE 4310-70-P